DEPARTMENT OF VETERANS AFFAIRS

VASRD Improvement Forum—Updating Disability Criteria for the Genitourinary System, Digestive System, Dental Conditions, and Infectious Diseases, Immune Disorders and Nutritional Deficiencies

AGENCY: Department of Veterans Affairs.

ACTION: Notice of meeting.

SUMMARY: The Veterans Benefits Administration (VBA) and Veterans Health Administration (VHA) will co-host the Department of Veterans Affairs (VA) Schedule for Rating Disabilities (VASRD) Improvement Forum—Updating Disability Criteria for the Genitourinary System, Digestive System, Dental Conditions, and Infectious Diseases, Immune Disorders and Nutritional Deficiencies. The purpose of the VASRD Improvement Forum is to capture public comment and current medical science information from presentations made by subject matter experts. VA plans to use this information to update the sections of the VASRD that pertain to the following four body systems: (1) Infectious Diseases, Immune Disorders and Nutritional Deficiencies (38 CFR 4.88-4.89), (2) the Digestive System (38 CFR 4.110-4.114), (3) the Genitourinary System (38 CFR 4.115-4.115b) and (4) Dental and Oral Conditions (38 CFR 4.150). Specifically, diagnostic code descriptors and evaluation criteria will be discussed. Contingent upon available capacity and time, individuals wishing to make oral statements will be accommodated on a first-come, first-served basis.

DATES: Four public meetings, each dedicated to a different body system, will be held from 8:30 a.m. to 4:30 p.m. on Tuesday, January 25; Thursday, January 27; Monday, January 31; and Wednesday, February 2, 2011.

ADDRESSES: The meetings will be held at the DoubleTree Paradise Valley Resort, located at 6333 North Scottsdale Road, in Scottsdale, Arizona.

FOR FURTHER INFORMATION CONTACT: R. P. Watkins, Regulation Staff (211D), Compensation and Pension Service, Department of Veterans Affairs, 810 Vermont Avenue, NW., Washington, DC 20420. Anyone wishing to attend these meetings or seeking additional information may also contact Mr. Watkins at (202) 461-9214 or Robert.Watkins2@va.gov.

Dated: December 21, 2010.
John R. Gingrich,
Chief of Staff, Department of Veterans Affairs.

[FR Doc. 2010-32909 Filed 12-29-10; 8:45 am]

BILLING CODE P